DEPARTMENT OF THE INTERIOR

National Park Service

[NPS-WASO-NAGPRA-NPS0039421; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of objects of cultural patrimony and that have a cultural affiliation with the Indian Tribes or Native Hawaiian organizations in this notice.

DATES: Repatriation of the cultural items in this notice may occur on or after April 16, 2025.

ADDRESSES: Doshia Dodd, Sonoma State University, 1801 East Cotati Avenue, Rohnert Park, CA 94928, telephone (530) 514-8472, email Doshia.dodd@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 88 cultural items have been request for repatriation.

A lot of 61 cultural items have been requested for repatriation from archaeological site CA-LAK-380 near Kelseyville, Lake County California. The objects are flaked stone tools and debitage; ground stone tools; unmodified faunal bone; soil samples, and unmodified obsidian. The collections, Accession Numbers 74-07, 76-24 and 84-01, have been housed at Sonoma State University since their curation in 1974, 1976 and 1984.

A lot of 27 cultural items have been requested for repatriation from archaeological site CA-LAK-381 near Kelseyville in Lake County, California. The lot of 27 of objects of cultural patrimony are charmstone; flaked stone tools and debitage; faunal bone tools; ground stone tools; modified faunal bone; and unmodified faunal bone. The collections, Accession Number 73-23, 74-07, and 78-08, have been housed at Sonoma State University since their curation in 1973, 1974 and 1978.

CA-LAK-380 was discovered by the landowner Julian Mostin in the late 1960's. Archaeologists were invited to excavate the site in the early 1970's. In 1973, the main focus of excavation was to salvage burials which were eroding into Kelsey Creek in 1974. In a combined field school, Sonoma State University and Cabrillo College excavated CA-LAK-380, with a second phase of excavation focused on CA-LAK-381.

Based on records concerning the associated funerary objects and the institution in which they are housed, there is no evidence of the associated funerary objects being treated with hazardous substances.

Determinations

The Sonoma State University has determined that:

• The 88 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Big Valley Band of Pomo Indians of the Big Valley Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 16, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: January 28, 2025.
Melanie O'Brien,
Manager, National NAGPRA Program.

[FR Doc. 2025-04202 Filed 3-14-25; 8:45 am]

BILLING CODE 4312-52-P